DEPARTMENT OF HEALTH AND HUMAN SERVICES

Centers for Medicare & Medicaid Services

[Document Identifier: CMS-1856 & 1893, CMS-R-273]

Agency Information Collection Activities: Proposed Collection; Comment Request

AGENCY: Centers for Medicare & Medicaid Services.

In compliance with the requirement of section 3506(c)(2)(A) of the Paperwork Reduction Act of 1995, the Centers for Medicare & Medicaid Services (CMS) is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: Request for Certification in the Medicare and/or Medicaid Program to Provide Outpatient Physical Therapy (OPT) and/or Speech Pathology Services, OPT Speech Pathology Survey Report and Supporting Regulations in 42 CFR 485.701-485.729.; Form No.: CMS-1856, CMS-1893 (OMB # 0938-0065); Use: The Medicare Program requires OPT providers to meet certain health and safety requirements. The request for certification form is used by State agency surveyors to determine if minimum Medicare eligibility requirements are met. The survey report form records the result of the on-site survey; Frequency: On occasion and Other—every 6 years; Affected Public: Business or other for-profit; Number of Respondents: 2,968; Total Annual Responses: 495; Total Annual Hours: 866.

2. Type of Information Collection Request: Extension of a currently approved collection; Title of Information Collection: Community Mental Health Center Site Visit Assessment Tool and Supporting Regulations in 42 CFR 410.2; Form No.: CMS-R-273 (OMB # 0938-0770); Use: This collection instrument aids CMS in its efforts to ensure that new and existing Community Mental Health Centers (CMHC) are compliant with Medicare provider requirements, and all applicable Federal and State requirements. The collection pertains to CMHC's provision of pre-admission screening to State mental health facilities and to expanding the collection tool's use into other program areas as a means to screen applicants, enrollees, and existing providers/suppliers to ensure their legitimacy to participate in the Medicare Program; Frequency: Reporting-Other, upon initial application or re-enrollment into the Medicare program; Affected Public: Business or other for-profit, Not-for-profit institutions, and State, local or tribal government; Number of Respondents: 4,731; Total Annual Responses: 4,731; Total Annual Hours: 20,372.

To obtain copies of the supporting statement and any related forms for the proposed paperwork collections referenced above, access CMS' Web site address at http://www.cms.hhs.gov/regulations/pra/, or e-mail your request, including your address, phone number, OMB number, and CMS document identifier, to Paperwork@cms.hhs.gov, or call the Reports Clearance Office on (410) 786-1326.

Written comments and recommendations for the proposed information collections must be mailed within 60 days of this notice directly to the CMS Paperwork Reduction Act Reports Clearance Office designated at the address below: CMS, Office of Strategic Operations and Regulatory Affairs, Division of Regulations Development, Attention: Melissa Musotto, PRA Analyst, Room C4-26-05, 7500 Security Boulevard, Baltimore, Maryland 21244-1850.

Dated: April 15, 2005.
Michelle Shortt,
Acting Director, Regulations Development Group, Office of Strategic Operations and Regulatory Affairs.

[FR Doc. 05-8163 Filed 4-22-05; 8:45 am]

BILLING CODE 4120-01-P